DEPARTMENT OF ENERGY

Federal Energy Regulatory Commission

Combined Notice of Filings #1

Take notice that the Commission has received the following Natural Gas Pipeline Rate and Refund Report filings:

Docket Numbers: RP20-667-000.

Applicants: Columbia Gas Transmission, LLC.

Description: Compliance filing TCO Petition for Limited Tariff Waiver to be effective N/A.

Filed Date: 3/20/20.

Accession Number: 20200320-5013.

Comments Due: 5 p.m. ET 4/1/20.

Docket Numbers: RP20-668-000.

Applicants: Iroquois Gas Transmission System, L.P.

Description: § 4(d) Rate Filing: 032020 Negotiated Rates—Emera Energy Services, Inc. R-2715-41 to be effective 4/1/2020.

Filed Date: 3/20/20.

Accession Number: 20200320-5032.

Comments Due: 5 p.m. ET 4/1/20.

Docket Numbers: RP20-669-000.

Applicants: Tennessee Gas Pipeline Company, L.L.C.

Description: § 4(d) Rate Filing: Volume No. 2-Neg Rate Agmt—Macquarie Energy 356528 & GDF Suez 355259 &355260 to be effective 4/1/2020.

Filed Date: 3/20/20.

Accession Number: 20200320-5054.

Comments Due: 5 p.m. ET 4/1/20.

Docket Numbers: RP20-670-000.

Applicants: Panhandle Eastern Pipe Line Company, LP.

Description: Compliance filing Flow Through of Cash-Out Revenues filed on 3-20-20 to be effective N/A.

Filed Date: 3/20/20.

Accession Number: 20200320-5070.

Comments Due: 5 p.m. ET 4/1/20.

Docket Numbers: RP20-671-000.

Applicants: Panhandle Eastern Pipe Line Company, LP.

Description: Compliance filing Flow Through of Penalty Revenues Report filed on 3-20-20 to be effective N/A.

Filed Date: 3/20/20.

Accession Number: 20200320-5072.

Comments Due: 5 p.m. ET 4/1/20.

Docket Numbers: RP20-672-000.

Applicants: Iroquois Gas Transmission System, L.P.

Description: § 4(d) Rate Filing: 032020 Negotiated Rates—Macquarie Energy LLC R-4090-20 to be effective 4/1/2020.

Filed Date: 3/20/20.

Accession Number: 20200320-5076.

Comments Due: 5 p.m. ET 4/1/20.

Docket Numbers: RP20-673-000.

Applicants: El Paso Natural Gas Company, L.L.C.

Description: § 4(d) Rate Filing: Non-Conforming Agreements (Saavi_Sempra 2020) to be effective 4/1/2020.

Filed Date: 3/20/20.

Accession Number: 20200320-5128.

Comments Due: 5 p.m. ET 4/1/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 23, 2020.
Nathaniel J. Davis, Sr.,
Deputy Secretary.

[FR Doc. 2020-06415 Filed 3-26-20; 8:45 am]

BILLING CODE 6717-01-P